INTERNATIONAL TRADE COMMISSION

[Investigation No. 337-TA-1244]

Certain Batteries and Products Containing Same; Institution of Investigation

AGENCY: U.S. International Trade Commission.

ACTION: Notice.

SUMMARY: Notice is hereby given that a complaint was filed with the U.S. International Trade Commission on December 30, 2020, under section 337 of the Tariff Act of 1930, as amended, on behalf of One World Technologies, Inc. of Anderson, South Carolina, and Techtronic Power Tools Technology Ltd. of the British Virgin Islands. A supplement to the complaint was filed on January 12, 2021. The complaint alleges violations of section 337 based upon the importation into the United States, the sale for importation, and the sale within the United States after importation of certain batteries and products containing same by reason of infringement of the sole claims of U.S. Patent No. D579,868 (“the '868 patent”); U.S. Patent No. D580,353 (“the '353 patent”); and U.S. Patent No. D593,944 (“the '944 patent”). The complaint further alleges that an industry in the United States exists as required by the applicable Federal Statute. The complainants request that the Commission institute an investigation and, after the investigation, issue a general exclusion order, or in the alternative a limited exclusion order, and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2020).

Scope of Investigation: Having considered the complaint, the U.S. International Trade Commission, on January 29, 2021, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of the sole claim of the '868 patent; the sole claim of the '353 patent; and the sole claim of the '944 patent; and whether an industry in the United States exists as required by subsection (a)(2) of section 337;

(2) Pursuant to section 210.10(b)(1) of the Commission's Rules of Practice and Procedure, 19 CFR 210.10(b)(1), the plain language description of the accused products or category of accused products, which defines the scope of the investigation, is “rechargeable battery packs intended for use with battery-powered products.”

(3) For the purpose of the investigation so instituted, the following are hereby named as parties upon which this notice of investigation shall be served:

(a) The complainants are:

One World Technologies, Inc., 100 Innovation Way, Anderson, South Carolina 29621

Techtronic Power Tools Technology Ltd., Trident Chambers, P.O. Box 146, Road Town, Tortola, British Virgin Islands

(b) The respondents are the following entities alleged to be in violation of section 337, and are the parties upon which the complaint is to be served:

Darui Development Limited, No. 34, Jiancha South Lane, Xiaojiuya Street, Kuduer Town, Yakeshi, Neimenggu 022164, China

Dongguan Xinjitong Electronic Technology Co., Ltd., 27 Xiangrong Road, Songmushan, Dalang Town, Dongguan City, Guangdong 523795, China

Shenzhen Laipaili Electronics Co., Ltd., 1113B Huiyi Caifu Centre, No. 9 Zhongxin Road, Gaofeng Community, Dalang Street, Longhua New District, Shenzhen, Guangdong 518190, China

Shenzhen Liancheng Weiye Industrial Co., Ltd., Floor A152, Phase II Factory Building, Fuqiao Zone 3, Xinhe Community, Fuhai Street, Baoan District, Shenzhen, Guangdong 518133, China

Shenzhen MingYang Creation Electronic Co., Ltd., No. 4, 3F, Building 2, Huafeng Logistics Industry Park, Dayang Road, Dayangtian, Fuyong Street, Baoan District, Shenzhen, Guangdong 518103, China

Shenzhen Ollop Technology Co. Ltd., 602 Tongji Building, No. 555 Jihua Road, Bantian Street, Longgang District, Shenzhen, Guangdong 518129, China

Shenzhen Rich Hao Yuan Energy Technology Co., Ltd., 3rd Floor, Building A17, Fuqiao Industrial Park, Zone 3, Fuyong Street, Baoan District, Shenzhen, Guangdong 518103, China

Shenzhen Runsensheng Trading Co., Ltd., 2505, Building A, Xinghe World, No.1, Yabao Road, Bantian Street, Longgang District, Shenzhen, Guangdong 518129, China

Shenzhen Saen Trading Co., Ltd., No. A709 Guangfa Building, B804 Mabu Community, Xixiang Street, Baoan District, Shenzhen, Guangdong 518126, China

Shenzhen Shengruixiang E-Commerce Co., Ltd., 302, Building 42, Chaoyang New Village, Minzhi Street, Longhua New District, Shenzhen, Guangdong 518131, China

Shenzhen Tuo Yu Technology Co., Ltd., 407, Guohong Shopping Plaza, No. 98, Meilong RD, Longhua ST, Longhua District, Shenzhen, Guangdong 518110, China

Shenzhen Uni-Sun Electronics Co., Ltd., 101 Building A, No. 43 Lan Er Road, Long Xin Community, Baolong Street, Longgang District, Shenzhen, Guangdong 518172, China

Shenzhen Vmartego Electronic Commerce Co., Ltd., 1901, No. 15-1, Haitian Road, Block A, Excellent Times Square, N23, Haiwang Community, Xin'an Street, Bao'an District, Shenzhen, Guangdong 518101, China

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainants of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: February 1, 2021.
Lisa Barton,
Secretary to the Commission.

[FR Doc. 2021-02376 Filed 2-4-21; 8:45 am]

BILLING CODE 7020-02-P